DEPARTMENT OF THE INTERIOR

Geological Survey

[USGS-8327-CMG61]

Agency Information Collection: Comment Request; The State of Ecosystem Services Implementation Survey

AGENCY: United States Geological Survey (USGS), Interior.

ACTION: Notice of a new collection.

SUMMARY: To comply with the Paperwork Reduction Act of 1995 (PRA), we are notifying the public that we have submitted to the Office of Management and Budget (OMB) an information collection request (ICR) for a new collection of information: The State of Ecosystem Services Implementation Survey. This notice provides the public and other Federal agencies an opportunity to comment on the paperwork burden of this information collection request.

DATES: You must submit comments on or before June 22, 2011.

ADDRESSES: Please submit written comments on this information collection directly to the Office of Management and Budget (OMB) Office of Information and Regulatory Affairs, Attention: Desk Officer for the Department of the Interior via e-mail to OIRA_DOCKET@omb.eop.gov or fax at 202-395-5806; and identify your submission as 1028—NEW. Please also submit a copy of your written comments to Phadrea Ponds, USGS Information Collection Clearance Officer, U.S. Geological Survey, 2150-C, Centre Avenue, Fort Collins, CO 80526-8118 (mail); 970-226-9230 (fax); or pondsp@usgs.gov (e-mail). Please reference Information Collection 1028—NEW, ECOSERV in the subject line.

FOR FURTHER INFORMATION CONTACT: To request additional information about this ICR, contact Rudy Schuster by mail at U.S. Geological Survey, 2150-C Center Avenue, Fort Collins, CO 80526, or by telephone at (970) 226-9165. To see a copy of the entire ICR submitted to OMB, go to http://www.reginfo.gov (Information Collection Review, Currently under Review).

SUPPLEMENTARY INFORMATION:

I. Abstract

Ecosystem goods and services are defined by ecologists as the biophysical processes that give rise to social benefits. For example, in ecology, processes such as nutrient cycling, atmospheric regulation, pollination, and seed dispersal are considered ecosystem services. Indirect benefits are also considered; for example, recreation, avoided flood damage, and aesthetic benefits are also ecosystem services. In short, the benefits associated with an ecosystem service are the value that humans derive from that service. The objectives of this survey are to illustrate the various approaches that are being used to formulate ecosystem services projects and the state-of-the-art processes through which projects are implemented. The survey will gather information concerning: Methods used in ecosystem services projects, motivations for conducting projects, degree of project implementation, management actions resulting from project results (for completed projects), and characteristics of projects that have successfully implemented ecosystem services concepts.

II. Data

OMB Control Number: 1028—NEW.

Title: The State of Ecosystem Services Implementation Survey.

Type of Request: This is a new collection.

Affected Public: Individuals who are (currently or recently have been) engaged in conducting an ecosystem services research project; potential respondents will include: Federal employees, non-governmental organization employees, and academic researchers. The population will include people from the United States as well as other nations.

Respondent's Obligation: Voluntary.

Frequency of Collection: On occasion.

Estimated Annual Number of Non-Federal Respondents: 392.

Estimated Total Annual Non-Federal Responses: 392.

Estimated Time per Response: 25 minutes for complete response and 5 minutes for non-respondents.

Estimated Total Annual Burden Hours: 140 hours.

Estimated Annual Reporting and Recordkeeping Non-Hour Cost Burden: We have not identified any non-hour cost burdens associated with this collection of information.

III. Request for Comments

On September 13, 2010, we published a Federal Register notice (75 FR 55598) announcing that we would submit this ICR to OMB for approval and soliciting comments. The comment period closed on November 12, 2011. We did not receive any comments in response to that notice.

We again invite comments concerning this ICR on: (a) Whether the proposed collection of information is necessary for the agency to perform its duties, including whether the information is useful; (b) the accuracy of the agency's estimate of the burden of the proposed collection of information; (c) ways to enhance the quality, usefulness, and clarity of the information to be collected; and (d) ways to minimize the burden on the respondents, including the use of automated collection techniques or other forms of information technology.

Please note that the comments submitted in response to this notice are a matter of public record. Before including your address, phone number, e-mail address, or other personal identifying information in your comment, you should be aware that your entire comment, including your personal identifying information, may be made publicly available at any time. While you can ask OMB in your comment to withhold your personal identifying information from public review, we cannot guarantee that it will be done.

Dated: May 3, 2011.
Anne Kinsinger,
Associate Director for Ecosystems.

[FR Doc. 2011-12517 Filed 5-20-11; 8:45 am]

BILLING CODE 4311-AM-P